SMALL BUSINESS ADMINISTRATION

[License No. 02/02-0646]

Riverside Micro-Cap Fund II, L.P.; Notice Seeking Exemption Under Section 312 of the Small Business Investment Act, Conflicts of Interest

Notice is hereby given that Riverside Micro-Cap Fund II, L.P., 45 Rockefeller Center, New York, NY 10111, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Riverside Micro-Cap Fund II, L.P. proposes to provide equity security financing to Employment Law Training, Inc., 160 Pine Street, San Francisco, CA 94111 (“ELT”).

The financing is brought within the purview of § 107.730(a) and (d) of the Regulations because Riverside Capital Appreciation Fund V, L.P. and Co-Invest Vehicle, both Associates of Riverside Micro-Cap Fund II, L.P., own more than ten percent of ELT, and therefore this transaction is considered a financing of an Associate requiring prior SBA approval.

Notice is hereby given that any interested person may submit written comments on the transaction, within fifteen days of the date of this publication, to the Associate Administrator for Investment, U.S. Small Business Administration, 409 Third Street SW., Washington, DC 20416.

Dated: February 1, 2012.
Sean J. Greene,
Associate Administrator for Investment.

[FR Doc. 2012-3287 Filed 2-10-12; 8:45 am]

BILLING CODE P